ENVIRONMENTAL PROTECTION AGENCY

[ER-FRL-6687-6]

Environmental Impacts Statements; Notice of Availability

Responsible Agency: Office of Federal Activities, General Information (202) 564-7167 or http://www.epa.gov/compliance/nepa/

Weekly receipt of Environmental Impact Statements.

Filed 05/28/2007 Through 06/01/2007.

Pursuant to 40 CFR 1506.9.

EIS No. 20070220, Final EIS, BLM, WY, Casper Field Office Planning Area Resource Management Plan, Implementation, Natrona, Converse, Goshen, and Platte Counties, WY, Wait Period Ends: 07/09/2007, Contact: Linda Slone 307-261-7520

EIS No. 20070221, Draft EIS, AFS, MT, Butte Resource Management Plan, Implementation, Beaverhead, Broadwater, Deerlodge, Gallatin, Jefferson, Lewis and Clark, Silver Bow and Park Counties, MT, Comment Period Ends: 09/06/2007, Contact: Tim LaMarr 406-533-7645

EIS No. 20070222, Draft EIS, AFS, MT, Grizzly Vegetation and Transportation Management Project, Proposes Timber Harvest, Prescribed Burning, Road Maintenance, and Transportation Management Actions, Three Rivers Ranger District, Kootenai National Forest, Lincoln County, MT, Comment Period Ends: 07/23/2007, Contact: Kathy Mohar 406-295-4693 EIS No. 20070223, Second Final Supplement, AFS, CA, Empire Vegetation Management Project, Reducing Fire Hazards, Harvesting of Trees Using Group-Selection (GS) and Individual Trees Selection (ITS) Methods, Mt. Hough Ranger District, Plumas National Forest, Plumas County, CA, Wait Period Ends: 07/09/2007, Contact: Gary Rotta 530-283-0555

EIS No. 20070224, Final EIS, BLM, CA, Sierra Resource Management Plan, Provide Direction for Managing Public Lands, Several Counties, CA, Wait Period Ends: 07/09/2007, Contact: Sandra McGinnis 916-985-4474

EIS No. 20070225, Fifth Final Supplement, AFS, 00, Northern Spotted Owl Management Plan, Removal or the Modification to the Survey and Manage Mitigation Measures, Standards and Guidelines (to the Northwest Forest Plan) New Information to Address Three Deficiencies Final Supplemental EIS (2004), Northwest Forest Plan, OR, WA, and CA , Wait Period Ends: 07/09/2007 Contact: Alan Christensen 503-808-2922 EIS No. 20070226, Final Supplement, AFS, MT, Frenchtown Face Ecosystem Restoration Project, Additional Information Maintenance and Improvement of Forest Health, Risk Reduction of Damage Insects and Disease, Lolo National Forest, Ninemile Ranger District, Missoula County, MT, Wait Period Ends: 07/09/2007, Contact: Gary Edson 406-626-5201

EIS No. 20070227, Draft EIS, NPS, CA, Golden Gate National Recreation Area, Proposed Marin Headlands and Fort Baker Transportation Infrastructure and Management Plan, Implementation, Marin County, CA, Comment Period Ends: 08/07/2007, Contact: Steve Ortega 415-561-4841

EIS No. 20070228, Final EIS, AFS, NM, Canadian River Tamarisk Control, Proposes to Control the Nonnative Invasive Species Tamarisk (also Known as salt cedar) Cibola National Forest, Canadian River, Harding and Mora Counties, New Mexico, Wait Period Ends: 07/09/2007, Contact: Keith Baker 505-346-3820

EIS No. 20070229, Draft EIS, AFS, 00, Nebraska and South Dakota Black-Tailed Prairie Dog Management, To Mange Prairie Dog Colonies in an Adaptive Fashion, Nebraska National Forest and Associated Units, Including Land and Resource Management Plan Amendment 3, Dawes, Sioux, Blaines Counties, NE and Custer, Fall River, Jackson, Pennington, Jones, Lyman, Stanley Counties, SD, Comment Period Ends: 07/23/2007, Contact: Michael E. McNeill 605-745-4107

EIS No. 20070230, Draft EIS, FHW, NY, NYS Route 17 at Exit 122 Interchange Project, To Improve the Safety and Operation, Right-of-Way Acquisition, Town of Wallkill, Orange County, NY, Comment Period Ends: 07/25/2007, Contact: Robert Arnold 518-431-4127

EIS No. 20070231, Draft EIS, UAF, 00, Common Battlefield Airmen Training (CBAT) Program, Proposes to Implement the CBAT Program at One of Three Installations: Moody Air Force Base (AFB), near Valosta, GA; Barkdale AFB in Bossier City, LA; and Arnold AFB near Manchester, TN , Comment Period Ends: 07/27/2007, Contact: Debra Harkiewicz 210-652-3959

Dated: June 5, 2007.
Robert W. Hargrove,
Director, NEPA Compliance Division, Office of Federal Activities.

[FR Doc. E7-11104 Filed 6-7-07; 8:45 am]

BILLING CODE 6560-50-P